NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by October 29, 2009. This application may be inspected by interested parties at the Permit Office, address below.

ADDRESSES: Comments should be addressed to Permit Office, Room 755, Office of Polar Programs, National Science Foundation, 4201 Wilson Boulevard, Arlington, Virginia 22230.

FOR FURTHER INFORMATION CONTACT: Nadene G. Kennedy at the above address or (703) 292-7405.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

The applications received are as follows:

1. Applicant: Permit Application No. 2010-016. Philip R. Kyle, Department of Earth & Environmental Science, New Mexico Institute of Mining and Technology, Socorro, NM 87801.

Activity for Which Permit Is Requested

Enter Antarctic Specially Protected Area. The applicant plans to enter Tramway Ridge, Mount Erebus (ASPA 130) measure soil temperatures and fluxes of CO2 and CO gases as part of the on-going surveillance of the active volcano. In addition, the applicant will undertake a survey of the geothermal features in the summit area of Mount Erebus.

Location

Tramway Ridge, Mount Erebus (ASPA 130).

Dates

December 1, 2009 to January 31, 2012.

Nadene G. Kennedy,
Permit Officer, Office of Polar Programs.

[FR Doc. E9-23380 Filed 9-28-09; 8:45 am]

BILLING CODE 7555-01-P